DEPARTMENT OF THE INTERIOR

Bureau of Land Management

[LLCO956000 L14200000.BJ0000]

Notice of Filing of Plats

AGENCY: Bureau of Land Management, Interior.

ACTION: Notice of Filing of Plats; Colorado

SUMMARY: The Bureau of Land Management (BLM) Colorado State Office is publishing this notice to inform the public of the official filing of the survey plats listed below. The plats will be available for viewing at http://www.glorecords.blm.gov.

DATES: The plats described in this notice were filed on August 15, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The supplemental plat of Sections 19 and 30, in Township 1 North, Range 1 East, Ute Meridian, Colorado, was accepted and filed on August 15, 2012.

The supplemental plat of Section 24, in Township 1 North, Range 1 West, Ute Meridian, Colorado, was accepted and filed on August 15, 2012.

Randy Bloom,
Chief Cadastral Surveyor for Colorado.

[FR Doc. 2012-22956 Filed 9-17-12; 8:45 am]

BILLING CODE 4310-JB-P